DEPARTMENT OF DEFENSE

Department of the Army; Corps of Engineers

Intent To Prepare a Draft Environmental Impact Statement in Conjunction With Proposed Sediment Management and Restoration Measures on the Grand Calumet River and non-Federal Portions of the Indiana Harbor Canal in Lake County, IN

AGENCY: Department of the Army, U.S. Army Corps of Engineers, DoD.

ACTION: Notice of intent.

SUMMARY: The study involves sediment management and restoration measures on the Grand Calumet River and non-Federal portions of the Indiana Harbor Canal. Potential alternatives to be evaluated are type and extent of dredging, possibility of capping areas, disposal options and restoration measures.

The Draft Environmental Impact Statement (DEIS) is expected to be released for public review in June 2006. As part of the scoping process, written comments will be accepted for a 60-day period, starting from the date of this notice. Comments should be submitted to Mr. Keith Ryder (see ADDRESSES).

DATES: Public scoping meetings will be held on:

1. May 24, 2005, 2-4 p.m., East Chicago, IN.

2. May 24, 2005, 5:45-7:45 p.m., Gary, IN.

ADDRESSES: The meeting locations are:

1. East Chicago, IN—East Chicago City Hall, 4525 Indianapolis Boulevard, East Chicago, IN 46312.

2. Gary, IN—Gary Public Library, Main Branch, 220 West Fifth Avenue, Gary, IN 46402.

Submit written comments to Mr. Keith Ryder, U.S. Army Corps of Engineers, Suite 600, 111 North Canal Street; Chicago, IL 60606-7206.

FOR FURTHER INFORMATION CONTACT: Mr. Keith Ryder, (312) 846-5587.

Gary E. Johnston,
Colonel, U.S. Army, District Engineer.

[FR Doc. 05-9584 Filed 5-12-05; 8:45 am]

BILLING CODE 3710-HN-M